DEPARTMENT OF LABOR

Proposed Information Collection Request on Applications for UI Modernization Incentive Payments; Comment Request for Extension Without Change

AGENCY: Employment and Training Administration, Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the ADDRESSES section of this notice or by accessing: http://www.doleta.gov/OMBCN/OMBControlNumber.cfm.

DATES: Written comments must be submitted to the office listed in the addressee section below on or before July 20, 2009.

ADDRESSES: Send comments to Scott Gibbons, U.S. Department of Labor, Employment and Training Administration, Office of Workforce Security, 200 Constitution Avenue, NW., Frances Perkins Bldg. Room S-4531, Washington, DC 20210, telephone number (202) 693-3008 (this is not a toll-free number) or by e-mail: gibbons.scott@dol.gov.

SUPPLEMENTARY INFORMATION: I. Background: Section 2003(f) of the American Recovery and Reinvestment Act of 2009 (ARRA) provides for Unemployment Insurance (UI) modernization incentive payments to be made from the Unemployment Trust Fund (UTF) to the states. The total amount available for all states is $7 billion dollars. To obtain its share, the state must make an application to the Department of Labor demonstrating that its UI law contains certain benefit eligibility provisions. The last date on which an incentive distribution may be made is September 30, 2011. When applying for a share of the UI modernization incentive payments, a state must document the provisions of its law that meet the requirements for obtaining an incentive payment. The state is also required to describe how it intends to use any incentive payment to improve or strengthen its UI program.

II. Desired Focus of Comments: Currently, the Employment and Training Administration is soliciting comments concerning this data collection. Comments are requested that:

• Evaluate whether the proposed collection of information is necessary to evaluate proposals, including whether the information will have practical utility;

• Evaluate the accuracy of the agency's estimate of the burden of the proposed collection of information, including the validity of the methodology and assumptions used;

• Address the quality, utility, and clarity of the information to be collected; and

• Address the burden of the collection of information on those who are to respond, including the use of appropriate automated, electronic, mechanical, or other technological collection techniques or other forms of information technology, e.g., permitting electronic submissions of responses.

III. Current Actions: This is a request for OMB approval under the Paperwork Reduction Act of 1995 (44 U.S.C. 3506(c)(2)(A)) for continuing an existing collection of information previously approved and assigned OMB Control No. 1205-0470.

Type of Review: Extension without change.

Agency: Employment and Training Administration.

Title: Applications for Unemployment Insurance Modernization Incentive Payments.

OMB Number: 1205-0470.

Agency Number: N/A.

Affected Public: State Government.

Cite/Reference/Form/etc: N/A.

Total Respondents: 53.

Frequency: One time collection.

Total Responses: 53.

Average Time per Response: 8 hours.

Estimated Total Burden Hours: 424 hours.

Total Burden Cost (capital/startup): $0.

Total Burden Cost (operating/maintaining): $0.

Comments submitted in response to this notice will be summarized and/or included in the request for Office of Management and Budget approval of the information collection request; they will also become a matter of public record.

Dated: Friday, May 15, 2009.
Cheryl Atkinson,
Administrator, Office of Workforce Security.

[FR Doc. E9-11892 Filed 5-20-09; 8:45 am]

BILLING CODE 4510-FN-P